NATIONAL AERONAUTICS AND SPACE ADMINISTRATION

[Notice: (22-011)]

NASA Advisory Council; Meeting

AGENCY: National Aeronautics and Space Administration.

ACTION: Notice of meeting.

SUMMARY: In accordance with the Federal Advisory Committee Act, as amended, the National Aeronautics and Space Administration (NASA) announces a meeting of the NASA Advisory Council (NAC).

DATES: Tuesday, March 1, 2022, 1:00 p.m. to 5:00 p.m. Eastern Time; and Wednesday, March 2, 2022, 1:00 p.m. to 5:00 p.m. Eastern Time.

ADDRESSES: Meeting will be virtual only. See WebEx and audio dial-in information below under SUPPLEMENTARY INFORMATION.

FOR FURTHER INFORMATION CONTACT: Ms. Marcia Guignard, NAC Administrative Officer, NASA Headquarters, Washington, DC 20546, marcia.guignard@nasa.gov.

SUPPLEMENTARY INFORMATION: As noted above, this meeting will be available to the public by WebEx and audio dial-in only. WebEx connectivity by computer and by phone is provided below. The WebEx event address for Tuesday, March 1, 2022 is: https://nasaenterprise.webex.com/nasaenterprise/j.php?MTID=m592e90e8ce149588f4e7b2a2d2e46f4c the event number (access code) is 2761 749 9803; the password is FWkhxrp$738 (case sensitive). Any interested person may join by phone by dialing the WebEx toll access number 1-415-527-5035 or 1-929-251-9612, and then entering the numeric participant passcode: 39549770. The WebEx event address for Wednesday, March 2, 2022 is: https://nasaenterprise.webex.com/nasaenterprise/j.php?MTID=m4981df9b7f36ffe1170da5b0e9ea048c the event number (access code) 2760 447 2272; the password is HTsKj9iD$23 (case sensitive). Any interested person may join by phone by dialing the WebEx toll access number 1-415-527-5035 or 1-929-251-9612, and then entering the numeric participant passcode: 48755943.

The agenda for the meeting will include reports from the following:

—Aeronautics Committee

—- Human Exploration and Operations Committee

—- Science Committee

—- STEM Engagement Committee

—- Technology, Innovation and Engineering Committee

It is imperative that the meeting be held on this date to accommodate the scheduling priorities of the key participants.

Patricia Rausch,
Advisory Committee Management Officer, National Aeronautics and Space Administration.

[FR Doc. 2022-03128 Filed 2-11-22; 8:45 am]

BILLING CODE 7510-13-P